ENVIRONMENTAL PROTECTION AGENCY

40 CFR Part 81

[EPA-R09-OAR-2013-0135; FRL-9791-5]

Designation of Areas for Air Quality Planning Purposes; State of California; Imperial Valley Planning Area for PM10 Clarification of Nonattainment Area Boundary

AGENCY: Environmental Protection Agency (EPA).

ACTION: Proposed rule.

SUMMARY: EPA is proposing to clarify the description of the Imperial Valley planning area, an area designated as nonattainment for the national ambient air quality standard for particulate matter with an aerodynamic diameter of a nominal 10 microns or less (PM10). EPA is not proposing to change the boundaries of the PM10 area or the status of the area as a “serious” PM10 nonattainment area but is proposing to clarify the description of this partial county area in the Code of Federal Regulations.

DATES: Written comments must be received on or before April 18, 2013.

ADDRESSES: Submit your comments, identified by Docket ID No. EPA-R09-OAR-2013-0135 by one of the following methods:

1. Federal eRulemaking Portal, at www.regulations.gov, please follow the on-line instructions;

2. Email to ward.laweeda @epa.gov; or

3. Mail or delivery to La Weeda Ward, Air Division (AIR-1), U.S. Environmental Protection Agency, Region 9, 600 Wilshire Blvd., Suite 1460, Los Angeles, CA 90017.

Please see the direct final rule which is located in the Rules section of this Federal Register for detailed instructions on how to submit comments.

FOR FURTHER INFORMATION CONTACT: La Weeda Ward, Air Division (AIR-1), U.S. Environmental Protection Agency, Region 9, 600 Wilshire Blvd., Suite 1460, Los Angeles, CA 90017, telephone number (213) 244-1812, or email ward.laweeda@epa.gov.

SUPPLEMENTARY INFORMATION: For further information, please see the direct final rule, of the same title, which is located in the Rules section of this Federal Register. EPA is clarifying that the “Imperial Valley planning area” PM10 nonattainment area is that portion of Imperial County that is defined as follows: Commencing at the southwest corner of Imperial County and extending north along the Imperial-San Diego County line to the northwest corner of Imperial County; then east along the Imperial-Riverside County line to the point of intersection of the eastern boundary line of Hydrologic Unit #18100200 ¹; then southeasterly along the eastern boundary line of Hydrologic Unit #18100200 to the Imperial County-Mexico Border; then west along the Imperial County-Mexico Border to the point of the beginning. EPA is publishing this action as a direct final rule without prior proposal because EPA views this action as noncontroversial and anticipates no adverse comments. A detailed rationale for this action is set forth in the preamble to the direct final rule. If EPA receives no adverse comments, EPA will not take further action on this proposed rule.

¹ Within Imperial County, the northeastern boundary of Hydrologic Unit #18100200 generally follows the crestline of the Chocolate Mountains.

If EPA receives adverse comments, EPA will withdraw the direct final rule, and it will not take effect. EPA will address all public comments in a subsequent final rule based on this proposed rule. EPA will not institute a second comment period on this action. Any parties interested in commenting on this action should do so at this time.

Dated: March 6, 2013.
Jared Blumenfeld,
Regional Administrator, Region IX.

[FR Doc. 2013-06199 Filed 3-18-13; 8:45 am]

BILLING CODE 6560-50-P